DEPARTMENT OF THE INTERIOR

Bureau of Land Management

[NV-020-1430-EU; N-62843]

Intent to Prepare an Amendment to the Paradise-Denio Resource Area Management Framework Plan, as Amended

AGENCY: Bureau of Land Management, Interior.

ACTION: Notice of intent to prepare a plan amendment.

SUMMARY: This notice of intent is to advise the public that the Bureau of Land Management (BLM), Winnemucca Field Office intends to consider a proposal which would require amending an existing planning document. The BLM is proposing to amend the Paradise-Denio Resource Area Management Framework Plan, which includes public lands in Humboldt County, Nevada. The purpose of the amendment would be to identify certain lands as suitable for direct sale pursuant to Sections 203 and 209 of the Federal Land Policy and Management Act of October 21, 1976. The lands identified for direct sale are described as:

Mount Diablo Meridian, Nevada

T. 43 N., R. 27 E.,

Sec. 2: S½NW¼;

Sec. 3: Lots 5, 6, 7, and 8;

Sec. 4: Lots 5 and 6.

T. 44 N., R. 27 E.,

Sec. 28: Lots 5, 6, and 7;

Sec. 33: NE¼, N½SE¼;

Sec. 34: NW¼, N½SW¼.

Totaling approximately 953.36 acres.

DATES AND ADDRESSES: For a period of 30 days, from the date of publication of this notice in the Federal Register, interested persons may submit written comments regarding the proposed plan amendment to: Terry Reed, Field Manager, Winnemucca Field Office, 5100 E. Winnemucca Boulevard, Winnemucca, NV 89445.

Comments, including names and street addresses of respondents will be available for public review at the BLM Winnemucca Field Office, and will be subject to disclosure under the Freedom of Information Act (FOIA). They may be published as part of the Environmental Assessment and other related documents. Individual respondents may request confidentiality. If you wish to withhold your name or street address from public review and disclosure under the FOIA, you must state this prominently at the beginning of your written comment. Such requests will be honored to the extent allowed by law. All submissions from organizations or businesses, and from individuals identifying themselves as representatives or officials of organizations or businesses, will be made available for public inspection in their entirety.

FOR FURTHER INFORMATION CONTACT: Mary Figarelle, Realty Specialist, at the above Winnemucca Field Office address or telephone (775) 623-1500.

Dated: February 17, 2000.
Terry A. Reed,
Field Manager, Winnemucca, Nevada.

[FR Doc. 00-4614 Filed 2-25-00; 8:45 am]

BILLING CODE 4310-HC-P